ENVIRONMENTAL PROTECTION AGENCY

40 CFR Part 52

[EPA-R04-OAR-2012-0961; FRL-9802-8]

Approval and Promulgation of Air Quality Implementation Plans; Charlotte, Raleigh/Durham and Winston Salem Carbon Monoxide Limited Maintenance Plan

AGENCY: Environmental Protection Agency (EPA).

ACTION: Withdrawal of direct final rule.

SUMMARY: Due to the receipt of a comment, EPA is voluntarily withdrawing the February 22, 2013, direct final rule to approve North Carolina's August 2, 2012, state implementation plan (SIP) submission for the limited maintenance plan showing continued attainment of the 8-hour carbon monoxide (CO) National Ambient Air Quality Standard (NAAQS) for the Charlotte, Raleigh/Durham and Winston-Salem Areas. EPA will consider this comment and will address the comment as appropriate and take final action at a later time. EPA will not institute a second comment period on this action.

DATES: The direct final rule published at 78 FR 12238 on February 22, 2013, is withdrawn as of April 15, 2013.

FOR FURTHER INFORMATION CONTACT: Richard Wong, Regulatory Development Section, Air Planning Branch, Air, Pesticides and Toxics Management Division, U.S. Environmental Protection Agency, Region 4, 61 Forsyth Street SW., Atlanta, Georgia 30303-8960. The telephone number is (404) 562-8726. Mr. Wong can be reached via electronic mail at wong.richard@epa.gov.

SUPPLEMENTARY INFORMATION: On February 22, 2013 (78 FR 12238), EPA proposed to approve North Carolina's August 2, 2012, SIP submission. The limited maintenance plan update is for the maintenance areas showing continued attainment of the 8-hour CO NAAQS for the Charlotte, Raleigh/Durham and Winston-Salem Areas. In the direct final rule, EPA stated that if adverse comments were received by March 25, 2013, the rule would be withdrawn and not take effect. On March 25, 2013, EPA received a comment. The comment could be interpreted as adverse and, therefore, EPA is withdrawing the direct final rule. EPA will address the comment, as appropriate, in a subsequent final action based upon the proposed rulemaking action, also published on February 22, 2013 (78 FR 12267). EPA will not institute a second comment period on this action.

List of Subjects in 40 CFR Part 52

Environmental protection, Air pollution control, Incorporation by reference, Intergovernmental relations, Reporting and recordkeeping requirements, Volatile organic compounds.

Dated: April 3, 2013.
A. Stanley Meiburg,
Acting Regional Administrator, Region 4.

Accordingly, the amendment to 40 CFR 52.1770 which published in the Federal Register on February 22, 2013, at 78 FR 12243 is withdrawn as of April 15, 2013.

[FR Doc. 2013-08694 Filed 4-12-13; 8:45 am]

BILLING CODE 6560-50-P